DEPARTMENT OF TRANSPORTATION

Federal Aviation Administration

Agency Information Collection Activities: Requests for Comments; Clearance of Renewed Approval of Information Collection: Aeronautical Chart Point of Sale Survey

AGENCY: Federal Aviation Administration (FAA), DOT.

ACTION: Notice and request for comments.

SUMMARY: In accordance with the Paperwork Reduction Act of 1995, FAA invites public comments about our intention to request the Office of Management and Budget (OMB) approval for to renew an information collection. The Federal Register Notice with a 60-day comment period soliciting comments on the following collection of information was published on November 30, 2012, vol. 77, no. 231, pages 71472-71473. Aeronautical Chart Point of Sale Survey data will be used by the Federal Aviation Administration to measure management objectives and analyze customer feedback for ISO-9001.

DATES: Written comments should be submitted by May 13, 2013.

FOR FURTHER INFORMATION CONTACT: Kathy DePaepe at (405) 954-9362, or by email at: Kathy.A.DePaepe@faa.gov.

SUPPLEMENTARY INFORMATION:

OMB Control Number: 2120-0741.

Title: Aeronautical Chart Point of Sale Survey.

Form Numbers: There are no FAA forms associated with this collection.

Type of Review: Renewal of an information collection.

Background: The Aviation System Standards Distribution Dissemination Quality Plan states that the organization shall determine, collect, and analyze appropriate data to demonstrate the suitability and effectiveness of the Quality Management System in relation to customer satisfaction. The Glenn Dale Distribution Center collects the customer feedback for Aviation System Standards Quality Management objectives. To accomplish the research objectives, Customers receive an email with a web link to an anonymous and voluntary survey twice a year. This information is used by Aviation System Standards to help evaluate current aeronautical product customer service at the point of sale.

Respondents: An estimated 320 aeronautical product customers.

Frequency: This information is collected semi-annually.

Estimated Average Burden per Response: 5 minutes.

Estimated Total Annual Burden: 53 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on April 3, 2013.
Albert R. Spence,
FAA Assistant Information Collection Clearance Officer, IT Enterprises Business Services Division, AES-200.

[FR Doc. 2013-08551 Filed 4-11-13; 8:45 am]

BILLING CODE 4910-13-P